INTERNATIONAL TRADE COMMISSION

[Investigation No. 337-TA-1095]

Certain Load Supporting Systems, Including Composite Mat Systems, and Components Thereof; Commission Determination Not To Review an Initial Determination Granting a Joint Motion To Terminate the Investigation Based on Consent Orders and a Settlement Agreement; Issuance of Consent Orders; Termination of the Investigation

AGENCY: U.S. International Trade Commission.

ACTION: Notice.

SUMMARY: Notice is hereby given that the U.S. International Trade Commission has determined not to review an initial determination (Order No. 10) granting a joint motion to terminate the investigation based on consent orders and a settlement agreement. The Commission has issued the consent orders. The investigation is terminated.

FOR FURTHER INFORMATION CONTACT: Lucy Grace D. Noyola, Office of the General Counsel, U.S. International Trade Commission, 500 E Street SW, Washington, DC 20436, telephone 202-205-3438. Copies of non-confidential documents filed in connection with this investigation are or will be available for inspection during official business hours (8:45 a.m. to 5:15 p.m.) in the Office of the Secretary, U.S. International Trade Commission, 500 E Street SW, Washington, DC 20436, telephone 202-205-2000. General information concerning the Commission may also be obtained by accessing its internet server (https://www.usitc.gov). The public record for this investigation may be viewed on the Commission's electronic docket (EDIS) at https://edis.usitc.gov. Hearing-impaired persons are advised that information on this matter can be obtained by contacting the Commission's TDD terminal on 202-205-1810.

SUPPLEMENTARY INFORMATION: The Commission instituted this investigation on January 22, 2018, based on a complaint filed by Newpark Mats & Integrated Services LLC of The Woodlands, Texas (“Newpark”). 83 FR 3022 (Jan. 22, 2018). The complaint, as amended, alleges violations of section 337 of the Tariff Act of 1930, as amended (19 U.S.C. 1337), in the importation into the United States, the sale for importation, and the sale within the United States after importation of certain load supporting systems, including composite mat systems, and components thereof by reason of infringement of certain claims of U.S. Patent Nos. 6,511,257 and 6,695,527. The notice of investigation, as amended, names as respondents Checkers Industrial Products, LLC of Broomfield, Colorado; Checkers Safety Group UK LTD of Cheshire, United Kingdom; Zigma Ground Solutions LTD of Essex, United Kingdom; and Isokon d.o.o. of Slovenske Konjice, Slovenia (“Isokon”). The Office of Unfair Import Investigations was not named as a party to the investigation.

On June 28, 2018, the Commission determined not to review an initial determination (“ID”) terminating the investigation in part as to Isokon. Notice (June 28, 2018) (determining not to review Order No. 8 (May 29, 2018)).

On June 13, 2018, Newpark and the remaining respondents filed a joint motion to terminate the investigation in its entirety based on consent orders and a settlement agreement.

On June 26, 2018, the administrative law judge (“ALJ”) issued the subject ID (Order No. 10) granting the motion. The ALJ found that the motion, consent order stipulation, and proposed consent orders satisfy the requirements of 19 CFR 210.21(b) and (c). The ALJ also found that termination of the investigation would not be contrary to the public interest. No petitions for review of the subject ID were filed.

The Commission has determined not to review the subject ID and has issued the consent orders. The authority for the Commission's determination is contained in section 337 of the Tariff Act of 1930, as amended (19 U.S.C. 1337), and in part 210 of the Commission's Rules of Practice and Procedure (19 CFR part 210).

By order of the Commission.
Issued: July 20, 2018.
Lisa Barton,
Secretary to the Commission.

[FR Doc. 2018-15930 Filed 7-24-18; 8:45 am]

BILLING CODE 7020-02-P